DEPARTMENT OF ENERGY

[Docket No. 23-87-LNG]

Lake Charles Exports, LLC; Application for Long-Term Authorization To Export Liquefied Natural Gas to Non-Free Trade Agreement Nations

AGENCY: Office of Fossil Energy and Carbon Management, Department of Energy.

ACTION: Notice of application.

SUMMARY: The Office of Fossil Energy and Carbon Management (FECM) of the Department of Energy (DOE) gives notice (Notice) of receipt of an application (Application), filed by Lake Charles Exports, LLC (LCE) on August 18, 2023, and supplemented on August 22, 2023. LCE requests long-term, multi-contract authorization to export domestically produced liquefied natural gas (LNG) in a volume equivalent to approximately 851 billion cubic feet (Bcf) of natural gas per year (Bcf/yr) from the proposed Lake Charles Terminal liquefaction facilities to be constructed in Lake Charles, Louisiana (Liquefaction Project). LCE filed the Application under the Natural Gas Act (NGA).

DATES: Protests, motions to intervene, or notices of intervention, as applicable, and written comments are to be filed as detailed in the Public Comment Procedures section no later than 4:30 p.m., Eastern time, November 6, 2023.

ADDRESSES:

Electronic Filing by email (Strongly encouraged): fergas@hq.doe.gov.

Postal Mail, Hand Delivery, or Private Delivery Services (e.g., FedEx, UPS, etc.): U.S. Department of Energy (FE-34), Office of Regulation, Analysis, and Engagement, Office of Fossil Energy and Carbon Management, Forrestal Building, Room 3E-056, 1000 Independence Avenue SW, Washington, DC 20585.

Due to potential delays in DOE's receipt and processing of mail sent through the U.S. Postal Service, we encourage respondents to submit filings electronically to ensure timely receipt.

FOR FURTHER INFORMATION CONTACT:

Jennifer Wade or Peri Ulrey, U.S. Department of Energy (FE-34) Office of Regulation, Analysis, and Engagement, Office of Resource Sustainability, Office of Fossil Energy and Carbon Management, Forrestal Building, Room 3E-042, 1000 Independence Avenue SW, Washington, DC 20585, (202) 586-4749 or (202) 586-7893, jennifer.wade@hq.doe.gov or peri.ulrey@hq.doe.gov

Cassandra Bernstein, U.S. Department of Energy (GC-76), Office of the Assistant General Counsel for Energy Delivery and Resilience, Forrestal Building, Room 6D-033, 1000 Independence Avenue SW, Washington, DC 20585, (202) 586-9793, cassandra.bernstein@hq.doe.gov

SUPPLEMENTARY INFORMATION: LCE requests authorization to export domestically produced LNG by ocean-going vessel from the proposed Liquefaction Project, to be constructed and located on an approximately 286-acre site adjacent to the existing Lake Charles LNG import facilities in Lake Charles, Louisiana. LCE states that the proposed Liquefaction Project will include three LNG trains and supporting infrastructure, which will be interconnected and operated, on an integrated basis, with existing major LNG import infrastructure at the Lake Charles Terminal site, including four LNG storage tanks, two deep water docks capable of handling large LNG vessels, LNG sendout facilities, and other ancillary facilities. LCE seeks to export this LNG from the Liquefaction Project in a volume equivalent to approximately 851 Bcf/yr of natural gas (approximately 2.33 Bcf per day) to any country with which the United States has not entered into a free trade agreement (FTA) requiring national treatment for trade in natural gas, and with which trade is not prohibited by U.S. law or policy (non-FTA nations), pursuant to section 3(a) of the NGA.¹

¹ 15 U.S.C. 717b(a).

In the Application, LCE states that it is already authorized in DOE/FE Order No. 3324, and the non-FTA portion of Order No. 4011, both as amended, to export the same combined volume of LNG from the proposed Lake Charles Terminal liquefaction facilities to non-FTA countries. LCE states, however, despite making substantial efforts, LCE will not be able to commence export operations by December 16, 2025, as required under its existing authorizations. Therefore, LCE states that it is filing for a new export authorization for the same amount, 851 Bcf/year of LNG, to be evaluated under current DOE/FECM policies and market information, and with a condition to commence export operations seven years from the date of issuance. LCE further asks that its existing non-FTA authorizations in DOE/FE Order Nos. 3324 and 4011 be vacated and replaced concurrently with the consolidated authorization.

LCE seeks this authorization on its own behalf and as agent for other entities that hold title to the LNG at the point of export. LCE requests the authorization for a term commencing on the date of first export following the start of commercial operation from the Liquefaction Project and extending through December 31, 2050.

Additional details can be found in the Application and supplement, posted on the DOE website at:

https://www.energy.gov/sites/default/files/2023-08/23-87-LNG_Lake%20Charles%20Exports%20NFTA%20Application.pdf.

https://www.energy.gov/sites/default/files/2023-08/FW_%20Lake%20Charles%20Exports%2C%20LLC%20-%20Clarification_Email.pdf.

DOE Evaluation

In reviewing the Application, DOE will consider any issues required by law or policy. DOE will consider domestic need for the natural gas, as well as any other issues determined to be appropriate, including whether the arrangement is consistent with DOE's policy of promoting competition in the marketplace by allowing commercial parties to freely negotiate their own trade arrangements. As part of this analysis, DOE will consider the study entitled, Macroeconomic Outcomes of Market Determined Levels of U.S. LNG Exports (2018 LNG Export Study),² and DOE's response to public comments received on that Study.³

² See NERA Economic Consulting, Macroeconomic Outcomes of Market Determined Levels of U.S. LNG Exports (June 7, 2018), www.energy.gov/sites/prod/files/2018/06/f52/Macroeconomic%20LNG%20Export%20Study%202018.pdf.

³ U.S. Dep't of Energy, Study on Macroeconomic Outcomes of LNG Exports: Response to Comments Received on Study; Notice of Response to Comments, 83 FR 67251 (Dec. 28, 2018).

Additionally, DOE will consider the following environmental documents:

• Addendum to Environmental Review Documents Concerning Exports of Natural Gas From the United States, 79 FR 48132 (Aug. 15, 2014); ⁴

⁴ The Addendum and related documents are available at www.energy.gov/fecm/addendum-environmental-review-documents-concerning-exports-natural-gas-united-states.

• Life Cycle Greenhouse Gas Perspective on Exporting Liquefied Natural Gas From the United States, 79 FR 32260 (June 4, 2014); ⁵ and

⁵ The 2014 Life Cycle Greenhouse Gas Report is available at www.energy.gov/fecm/life-cycle-greenhouse-gas-perspective-exporting-liquefied-natural-gas-united-states.

• Life Cycle Greenhouse Gas Perspective on Exporting Liquefied Natural Gas From the United States: 2019 Update, 84 FR 49278 (Sept. 19, 2019), and DOE's response to public comments received on that study.⁶

⁶ U.S. Dep't of Energy, Life Cycle Greenhouse Gas Perspective on Exporting Liquefied Natural Gas from the United States: 2019 Update—Response to Comments, 85 FR 72 (Jan. 2, 2020). The 2019 Update and related documents are available at https://fossil.energy.gov/app/docketindex/docket/index/21.

Parties that may oppose this Application should address these issues and documents in their comments and protests, as well as other issues deemed relevant to the Application.

The National Environmental Policy Act (NEPA), 42 U.S.C. 4321 et seq., requires DOE to give appropriate consideration to the environmental effects of its proposed decisions. No final decision will be issued in this proceeding until DOE has met its environmental responsibilities.

Public Comment Procedures

In response to this Notice, any person may file a protest, comments, or a motion to intervene or notice of intervention, as applicable. Interested parties will be provided 60 days from the date of publication of this Notice in which to submit comments, protests, motions to intervene, or notices of intervention.

Any person wishing to become a party to this proceeding evaluating the Application must file a motion to intervene or notice of intervention. The filing of comments or a protest with respect to the Application will not serve to make the commenter or protestant a party to this proceeding, although protests and comments received from persons who are not parties will be considered in determining the appropriate action to be taken on the Application. All protests, comments, motions to intervene, or notices of intervention must meet the requirements specified by the regulations in 10 CFR part 590, including the service requirements.

Filings may be submitted using one of the following methods:

(1) Submitting the filing electronically at fergas@hq.doe.gov;

(2) Mailing the filing to the Office of Regulation, Analysis, and Engagement at the address listed in the ADDRESSES section; or

(3) Hand delivering the filing to the Office of Regulation, Analysis, and Engagement at the address listed in the ADDRESSES section.

For administrative efficiency, DOE prefers filings to be filed electronically. All filings must include a reference to “Docket No. 23-87-LNG” or “Lake Charles Exports, LLC Application” in the title line.

For electronic submissions: Please include all related documents and attachments (e.g., exhibits) in the original email correspondence. Please do not include any active hyperlinks or password protection in any of the documents or attachments related to the filing. All electronic filings submitted to DOE must follow these guidelines to ensure that all documents are filed in a timely manner.

The Notice, and any filed protests, motions to intervene, notices of intervention, and comments will be available electronically on the DOE website at www.energy.gov/fecm/regulation.

A decisional record on the Application will be developed through responses to this Notice by parties, including the parties' written comments and replies thereto. Additional procedures will be used as necessary to achieve a complete understanding of the facts and issues. If an additional procedure is scheduled, notice will be provided to all parties. If no party requests additional procedures, a final Opinion and Order may be issued based on the official record, including the Application and responses filed by parties pursuant to this Notice, in accordance with 10 CFR 590.316.

Signed in Washington, DC, on August 29, 2023.
Amy Sweeney,
Director, Office of Regulation, Analysis, and Engagement, Office of Resource Sustainability.

[FR Doc. 2023-19053 Filed 9-1-23; 8:45 am]

BILLING CODE 6450-01-P